DEPARTMENT OF HEALTH AND HUMAN SERVICES

Substance Abuse and Mental Health Services Administration

Public Health Service; Notice of Listing of Members of the Substance Abuse and Mental Health Services Administration's Senior Executive Service Performance Review Board (PRB)

The Substance Abuse and Mental Health Services Administration (SAMHSA) announces the persons who will serve on the Substance Abuse and Mental Health Services Administration's Performance Review Board. This action is being taken in accordance with Title 5, U.S.C., Section 4314(c)(4), which requires that members of performance review boards be appointed in a manner to ensure consistency, stability, and objectivity in performance appraisals, and requires that notice of the appointment of an individual to serve as a member by published in the Federal Register.

The following persons will serve on the SAMHSA Performance Review Board, which is responsible for making recommendations on performance appraisal ratings, pay adjustments, and performance awards for SAMHSA's Senior Executive Service (SES) members:

Eric Broderick, D.D.S.—Chairperson.

Westley Clark, M.D., J.D., M.P.H.

Randy Grinnell.

Anna Marsh, Ph.D.

Dennis Romero, M.A.

For further information about the SAMHSA Performance Review Board, contact the Division of Management Systems, Substance Abuse and Mental Health Services Administration, 1 Choke Cherry Road, Room 3-1017, Rockville, Maryland 20857, telephone (240) 276-1124 (not a toll-free number).

Dated: October 15, 2007.
Terry L. Cline,
Administrator, SAMHSA.

[FR Doc. 07-5158 Filed 10-18-07; 8:45 am]

BILLING CODE 4160-01-M